Title 3—

The President

Proclamation 10215 of May 21, 2021

National Safe Boating Week, 2021

By the President of the United States of America

A Proclamation

Every year, millions of Americans take time to enjoy our Nation's waterways—one of our great natural treasures. As more Americans get vaccinated against COVID-19, and as warmer weather draws families to our Nation's lakes, rivers, and beaches, this week serves as a critical reminder of the importance of staying safe on the water. Each year during National Safe Boating Week, the Coast Guard and an array of Federal, State, and local partners help save lives and guard against accidents by highlighting safe boating practices.

This year, we celebrate the 50th anniversary of the Federal Boat Safety Act of 1971. The Act created a partnership between the Federal Government and the States to improve the safety of recreational boating. It also established the National Recreational Boating Safety Program and gave the Coast Guard the authority to establish mandatory boat manufacturing and safety standards. The Coast Guard estimates that these efforts have saved nearly 100,000 lives over the last half century.

While most boating trips are enjoyable and safe, tragedy still strikes with alarming frequency. Since 2000, there have been over 13,000 boating-related deaths and over 64,000 boating-related injuries, many of which could have been prevented if proper safety precautions were taken. Whether you are fishing, sailing, or out on the water with family or friends, it is essential to follow safe boating practices for your own protection and the protection of those around you.

Safe boating begins with education and planning. Human error contributes to the vast majority of boating accidents, which can be minimized by taking an “on-water” boating safety course. Learning and improving your boating skills help increase the odds of an enjoyable and safe boating experience. Every American can ensure that their boat is ready for the water by obtaining a free vessel safety check offered through the U.S. Coast Guard Auxiliary.

I call upon all Americans to follow safe boating practices. By following basic boating safety procedures—wearing life jackets, carrying lifesaving emergency distress and communications equipment, judiciously using the engine cut-off switch, and staying sober when boating—we can prevent the vast majority of boating fatalities and help ensure boaters on America's coastal, inland, and offshore waters stay safe throughout the season.

In recognition of the importance of safe boating practices, the Congress, by joint resolution approved June 4, 1958 (36 U.S.C. 131), as amended, has authorized and requested the President to proclaim annually the 7-day period before Memorial Day weekend as “National Safe Boating Week.”

NOW, THEREFORE, I, JOSEPH R. BIDEN JR., President of the United States of America, do hereby proclaim May 22 through May 28, 2021, as National Safe Boating Week. I encourage all Americans who participate in boating activities to observe this occasion by learning and practicing safe boating behaviors. I also encourage the Governors of the States and Territories, and appropriate officials of all units of government, to join me in encouraging boating safety through events and activities.

IN WITNESS WHEREOF, I have hereunto set my hand this twenty-first day of May, in the year of our Lord two thousand twenty-one, and of the Independence of the United States of America the two hundred and forty-fifth.

[FR Doc. 2021-11457

Filed 5-27-21; 8:45 am]

Billing code 3295-F1-P